INTERNATIONAL TRADE COMMISSION

[Investigation No. 731-TA-1012 (Second Review)]

Certain Frozen Fish Fillets From Vietnam

Determination

On the basis of the record ¹ developed in the subject five-year review, the United States International Trade Commission (“Commission”) determines, pursuant to section 751(c) of the Tariff Act of 1930 (19 U.S.C. 1675(c)), that revocation of the antidumping duty order on certain frozen fish fillets from Vietnam would be likely to lead to continuation or recurrence of material injury to an industry in the United States within a reasonably foreseeable time.

¹ The record is defined in sec. 207.2(f) of the Commission's Rules of Practice and Procedure (19 CFR 207.2(f)).

Background

The Commission instituted this review on June 2, 2014 (79 FR 31345) and determined on September 5, 2014, that it would conduct an expedited review (79 FR 56826).

The Commission completed and filed its determination in this review on October 30, 2014. The views of the Commission are contained in USITC Publication 4498 (October 2014), entitled Certain Frozen Fish Fillets FSrom Vietnam: Investigation No. 731-TA-1012 (Second Review).

Issued: October 30, 2014.
By order of the Commission.
Lisa R. Barton,
Secretary to the Commission.

[FR Doc. 2014-26157 Filed 11-3-14; 8:45 am]

BILLING CODE 7020-02-P